DEPARTMENT OF ENERGY

Federal Energy Regulatory Commission

[Docket No. ER02-1330-001]

Pacific Gas and Electric Company; Notice of Filing

August 30, 2002.

Take notice that on August 26, 2002, Pacific Gas and Electric Company (PG&E) tendered for filing a response to FERC's deficiency letter dated May 17, 2002, in this docket. PG&E's letter pertains to several Agreements filed on March 18, 2002, including an executed Generator Interconnection Agreement (GIA) to replace an unexecuted placeholder GIA that is part of the Generator Special Facilities Agreement (GSFA), between PG&E and Los Medanos Energy Center LLC (LMEC) and which provides for Special Facilities and the parallel operation of LMEC's generating facility and the PG&E-owned electric system that is on file with the Commission as Service Agreement No. 8 to PG&E Electric Tariff, Sixth Revised Volume No. 5. In the August 26, 2002 filing PG&E included additional information requested by FERC, including a proposed crediting mechanism for network upgrades.

Copies of this filing have been served upon LMEC, Calpine Corporation, the California Independent System Operator Corporation, and the California Public Utilities Commission, and the parties to this docket.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 208-1659. Protests and interventions may be filed electronically via the Internet in lieu of paper; see 18 CFR 385.2001(a)(1)(iii) and the instructions on the Commission's Web site under the “e-Filing” link. The Commission strongly encourages electronic filings.

Comment Date: September 16, 2002.

Magalie R. Salas,
Secretary.

[FR Doc. 02-22710 Filed 9-5-02; 8:45 am]

BILLING CODE 6717-01-P